FEDERAL DEPOSIT INSURANCE CORPORATION

Agency Information Collection Activities: Proposed Collection; Comment Request

AGENCY: Federal Deposit Insurance Corporation (FDIC).

ACTION: Notice and request for comment.

SUMMARY: The FDIC, as part of its continuing effort to reduce paperwork and respondent burden, invites the general public and other Federal agencies to take this opportunity to comment on proposed and/or continuing information collections, as required by the Paperwork Reduction Act of 1995 (44 U.S.C. chapter 35). Currently, the FDIC is soliciting comments concerning the following collections of information titled: (1) Interagency Charter and Federal Deposit Insurance Application; (2) Application for a Bank to Establish a Branch or Move its Main Office or Branch; (3) Application for Consent to Reduce or Retire Capital; (4) Appraisal Standards; (5) Activities and Investments of Savings Associations; and (6) CRA Sunshine.

DATES: Comments must be submitted on or before February 20, 2006.

ADDRESSES: Interested parties are invited to submit written comments to Steven F. Hanft, (202) 898-3907, Legal Division, Federal Deposit Insurance Corporation, 550 17th Street, NW., Washington, DC 20429. All comments should refer to the OMB control number. Comments may be hand-delivered to the guard station at the rear of the 17th Street Building (located on F Street), on business days between 7 a.m. and 5 p.m. Comments may also be Faxed to (202) 898-8788; or e-mailed to: comments@fdic.gov.

A copy of the comments may also be submitted to the OMB desk officer for the FDIC, Office of Information and Regulatory Affairs, Office of Management and Budget, New Executive Office Building, Washington, DC 20503.

FOR FURTHER INFORMATION CONTACT: Steven F. Hanft, at the address identified above.

SUPPLEMENTARY INFORMATION:

Proposal to Renew the Following Currently Approved Collections of Information

1. Title: Interagency Charter and Federal Deposit Insurance Application.

OMB Number: 3064-0001.

Frequency of Response: On occasion.

Affected Public: Banks of savings associations wishing to become FDIC-insured depository institutions.

Estimated Number of Respondents: 193.

Estimated Time per Response: 125 hours.

Total Annual Burden: 24,125 hours.

General Description of Collection: The Federal Deposit Insurance Act requires proposed financial institutions to apply to the FDIC to obtain deposit insurance. This collection provides the FDIC with the information needed to evaluate applications for deposit insurance.

2. Title: Application for a Bank to Establish a Branch or Move its Main Office or Branch.

OMB Number: 3064-0070.

Frequency of Response: On occasion.

Affected Public: Insured financial institutions.

Estimated Number of Respondents: 1,540.

Estimated Time per Response: 5 hours.

Total Annual Burden: 7,700 hours.

General Description of Collection: Insured institutions must obtain the written consent of the FDIC before establishing or moving a main office or branch.

3. Title: Application for Consent to Reduce or Retire Capital.

OMB Number: 3064-0079.

Frequency of Response: On occasion.

Affected Public: Insured state nonmember banks.

Estimated Number of Respondents: 80.

Estimated Time per Response: 1 hour.

Total Annual Burden: 80 hours.

General Description of Collection: Insured state nonmember banks proposing to change their capital structure must submit an application containing information about the proposed change to obtain FDIC's consent to reduce or retire capital.

4. Title: Appraisal Standards.

OMB Number: 3064-0103.

Frequency of Response: On occasion.

Affected Public: Insured state nonmember banks.

Estimated Number of Respondents: 5,346.

Estimated Time per Response: 15 minutes.

Estimated Number of Responses: 328,600.

Total Annual Burden: 82,150 hours.

General Description of Collection: FIRREA directs the FDIC to prescribe appropriate performance standards for real estate appraisals connected with Federally related transactions under its jurisdiction. This information collection is a direct consequence of the statutory requirement.

5. Title: Activities and Investments of Savings Associations.

OMB Number: 3064-0104.

Frequency of Response: On occasion.

Affected Public: Insured Savings Associations.

Estimated Number of Respondents: 75.

Estimated Time per Response: 5 hours.

Total Annual Burden: 375 hours.

General Description of Collection: State savings associations must furnish information to the FDIC to obtain approval or non-objection prior to engaging in certain activities or acquiring/retaining certain investments.

6. Title: CRA Sunshine.

OMB Number: 3064-0139.

Frequency of Response: On occasion.

Affected Public: Insured state nonmember banks and their affiliates, and nongovernmental entities and persons.

Estimated Number of Respondents: 26.

Estimated Time per Response: 19.3 hours.

Total Annual Burden: 501.6 hours.

General Description of Collection: This collection implements a statutory requirement imposing reporting, disclosure and recordkeeping requirements on some community reinvestment-related agreements between insured depository institutions or affiliates, and nongovernmental entities or persons.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology.

At the end of the comment period, the comments and recommendations received will be analyzed to determine the extent to which the collection should be modified prior to submission to OMB for review and approval. Comments submitted in response to this notice also will be summarized or included in the FDIC's requests to OMB for renewal of these collections. All comments will become a matter of public record.

Dated at Washington, DC, this 18th day of December, 2006.
Federal Deposit Insurance Corporation.
Robert E. Feldman,
Executive Secretary.

[FR Doc. 06-9829 Filed 12-21-06; 8:45 am]

BILLING CODE 6714-01-M